FEDERAL COMMUNICATIONS COMMISSION

Sunshine Act Meeting Scheduled for Thursday, April 10, 2008, Cancelled

April 10, 2008.

The Federal Communications Commission has cancelled the Open Meeting on the subjects previously scheduled for Thursday, April 10, 2008, at 445 12th Street, SW., Washington, DC.

Additional information concerning this meeting may be obtained from Audrey Spivack or David Fiske, Office of Media Relations, (202) 418-0500; TTY 1-888-835-5322.

Federal Communications Commission.
Marlene H. Dortch,
Secretary.

[FR Doc. 08-1128 Filed 4-10-08; 11:35 am]

BILLING CODE 6712-01-P